DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held June 10, 2010 from 8:30 a.m. to 1:30 p.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for an RTCA Program Management Committee meeting. The agenda will include:

• Opening Plenary (Welcome and Introductions)

• Review/Approve Summary of March 17, 2010 PMC meeting, RTCA Paper No. 056-10/PMC-787.

• Publication Consideration/Approval

• Final Draft, New Document, Operational Services and Environmental Definition (OSED) for Unmanned Aircraft Systems (UAS), RTCA Paper No. 066-10/PMC-791, prepared by SC-203.

• Integration and Coordination Committee (ICC)—Report

• SC-186/206/214 Coordination—Weather Data Dissemination—Discussion—Recommendation

• Special Committee Interface Matrix—Review

• Action Item Review

• SC-214—Standards for Air Traffic Data Communications Services—Discussion—Review/Approve Revised Terms of Reference

• SC-186—Automatic Dependent Surveillance—Broadcast—Discussion—Review/Approve Revised Terms of Reference

• Discussion

• Trajectory Operations

• RTCA Annual Awards

• Special Committees—Chairmen's Reports

• Closing Plenary (Other Business, Document Production and PMC Meeting Schedule Meeting, Adjourned)

Attendance is open to the interested public but limited to space availability. With the approval of the chairman, members of the public may present oral statements at the meeting. Persons wishing to present statements or obtain information should contact the person listed in the FOR FURTHER INFORMATION CONTACT section.

Members of the public may present a written statement to the committee at any time.

Issued in Washington, DC, on May 21, 2010.
Meredith Gibbs,
RTCA Advisory Committee.

[FR Doc. 2010-12721 Filed 5-26-10; 8:45 am]

BILLING CODE 4910-13-P